ENVIRONMENTAL PROTECTION AGENCY

40 CFR Part 63

[EPA-R01-OAR-2010-0207; A-1-FRL-9163-3]

Approval of the Clean Air Act, Section 112(l), Authority for Hazardous Air Pollutants: Air Emission Standards for Halogenated Solvent Cleaning Machines: State of Rhode Island Department of Environmental Management

AGENCY: Environmental Protection Agency (EPA).

ACTION: Proposed rule.

SUMMARY: Under Clean Air Act section 112(l), EPA may approve State or local rules or programs to be implemented and enforced in place of certain otherwise applicable Federal rules, emissions standards, or requirements. EPA proposes to approve Rhode Island Department of Environmental Management's (“RI DEM's”) request for approval to implement and enforce Air Pollution Control Regulation Number 36, Control of Emissions from Organic Solvent Cleaning (“RI Regulation No. 36”) and Rhode Island Air Pollution Control, General Definitions Regulation (“RI General Definitions Rule”), as a partial substitution for the National Emissions Standards for Halogenated Solvent Cleaning (“Halogenated Solvent NESHAP”) as it applies to organic solvent cleaning machines in Rhode Island, except for continuous web cleaning machines. This approval would grant RI DEM the authority to implement and enforce RI Regulation No. 36 and the RI General Definitions Rule in place of the Halogenated Solvent NESHAP for organic solvent cleaning machines and would make the Rhode Island Department of Environmental Management's rules referenced above Federally enforceable. Continuous web cleaning machines would remain subject to the Halogenated Solvent NESHAP.

DATES: Written comments must be received on or before July 19, 2010.

ADDRESSES: Submit your comments, identified by Docket ID No. EPA-R01-OAR-2010-0207 by one of the following methods:

1. http://www.regulations.gov: Follow the on-line instructions for submitting comments.

2. E-mail: mcdonnell.ida@epa.gov.

3. Fax: (617) 918-0653.

4. Mail: “EPA-R01-OAR-2010-0207”, Ida McDonnell, U.S. Environmental Protection Agency, EPA New England Regional Office, Air Permits, Toxics and Indoor Programs Unit, Five Post Office Square, Suite 100 (OEP05-2), Boston, MA 02109-3912.

5. Hand Delivery or Courier. Deliver your comments to: Ida McDonnell, Manager, Air Permits, Toxics and Indoor Programs Unit, Office of Ecosystem Protection, U.S. Environmental Protection Agency, EPA New England Regional Office, Five Post Office Square, Suite 100 (OEP05-2), Boston, MA 02109-3912. Such deliveries are only accepted during the Regional Office's normal hours of operation. The Regional Office's official hours of business are Monday through Friday, 8:30 to 4:30, excluding legal holidays.

Please see the direct final rule which is located in the Rules Section of this Federal Register for detailed instructions on how to submit comments. EPA will forward copies of all submitted comments to the Rhode Island Department of Environmental Management.

FOR FURTHER INFORMATION CONTACT: Susan Lancey, Air Permits, Toxics and Indoor Programs Unit, Office of Ecosystem Protection, U.S. Environmental Protection Agency, EPA New England Regional Office, Five Post Office Square, Suite 100 (OEP05-2), Boston, MA 02109-3912, telephone number (617) 918-1656, fax number (617) 918-0656, e-mail lancey.susan@epa.gov.

SUPPLEMENTARY INFORMATION: In the Final Rules Section of this Federal Register, EPA is approving the State of Rhode Island's Section 112(l) submittal as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will then be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules Section of this Federal Register.

Dated: June 8, 2010.
Ira W. Leighton,
Acting Regional Administrator, EPA New England.

[FR Doc. 2010-14509 Filed 6-17-10; 8:45 am]

BILLING CODE 6560-50-P